DEPARTMENT OF COMMERCE

National Oceanic and Atmospheric Administration

Agency Information Collection Activities; Submission to the Office of Management and Budget (OMB) for Review and Approval; Comment Request; Alaska Region Crab Permits

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 20, 2023.

ADDRESSES: Interested persons are invited to submit written comments to Adrienne Thomas, NOAA PRA Officer, at NOAA.PRA@noaa.gov. Please reference OMB Control Number 0648-0514 in the subject line of your comments. Do not submit Confidential Business Information or otherwise sensitive or protected information.

FOR FURTHER INFORMATION CONTACT: Requests for additional information or specific questions related to collection activities should be directed to Gabrielle Aberle, 709 W 9th Street, Juneau, AK 9980, 907-586-7356, gabrielle.aberle@noaa.gov.

SUPPLEMENTARY INFORMATION:

I. Abstract

The National Marine Fisheries Service (NMFS), Alaska Regional Office, is requesting extension of a currently approved information collection for the Crab Rationalization Program (CR Program).

This information collection is necessary for NMFS to manage the CR Program. The CR Program was implemented on April 1, 2005 (70 FR 10174, March 2, 2005). The CR Program is a limited access privilege program that allocates the harvest of crab fisheries managed under the Fishery Management Plan for Bering Sea and Aleutian Islands King and Tanner Crabs (FMP) among harvesters, processors, and coastal communities. Regulations implementing the FMP and the CR Program are at 50 CFR part 680. Information on the CR Program is posted on the NMFS Alaska Region website at https://www.fisheries.noaa.gov/alaska/sustainable-fisheries/bering-sea-and-aleutian-islands-crab-rationalization-program.

This information collection includes the forms used by participants in the CR Program to apply for or renew permits; transfer or lease individual fishing quota (IFQ), individual processor quota (IPQ), quota share (QS), or processor quota share (PQS); and apply for exemption from regional delivery requirements. This information collection also includes the following reports for which no collection forms are used:

• The North or South Region Delivery Exemption Report is submitted by IFQ holders who signed a preseason application. This report provides NMFS with the means to assess how the industry is exercising the exemption opportunity and whether implementing regulations are sufficient to meet the North Pacific Fishery Management Council's Statement of Intent for Amendment 41 to the FMP.

• The Community Impact Report or IPQ Holder Report is submitted by a community entity or IPQ holder, respectively, and provides documentation needed by NMFS to evaluate the efficacy of privately administered contracts.

• The CDQ Group Notification of Community Representative is submitted by the Western Alaska Community Development Quota (CDQ) groups representing Saint Paul and Saint George to designate to NMFS a single entity as the regional representative for these two communities.

• The Eligible Crab Community Organization (ECCO) Annual Report is submitted by the ECCO. It details the use of the crab QS and IFQ and is intended to ensure that the ECCO maintains the QS and IFQ to benefit residents of eligible communities.

II. Method of Collection

The information is collected primarily by mail and fax. The following may be submitted online through eFISH on the NMFS Alaska Region website: The Application for Transfer (Lease) of Crab IPQ, the Application for Transfer (Lease) of Crab IFQ, the Application for Transfer of IFQ between Crab Harvesting Cooperatives, and renewals of registered crab receiver permits and Federal crab vessel permits. Applications are available as fillable pdfs on the NMFS Alaska Region website at https://www.fisheries.noaa.gov/permit/bering-sea-and-aleutian-islands-crab-rationalization-applications-and-reporting-forms.

III. Data

OMB Control Number: 0648-0514.

Form Number(s): None.

Type of Review: Regular submission (extension of a current information collection).

Affected Public: Individuals or households; business or other for-profit organizations; not-for-profit institutions.

Estimated Number of Respondents: 496.

Estimated Time per Response: Application for Annual Crab IFQ Permit: 2.5 hours; Application for Annual Crab IPQ Permit: 2 hours; Application for Annual Crab Harvesting Cooperative IFQ Permit: 23 hours; Application for Registered Crab Receiver (RCR) Permit: 30 minutes; Application for BSAI Crab Hired Master (skipper) Permit: 1 hour; Application for Federal Crab Vessel Permit (FCVP): 20 minutes; Application for Transfer of Crab QS: 2 hours; Application for Transfer of Crab PQS: 2.5 hours; Application for Transfer (lease) of Crab IFQ: 2.5 hours; Application for Transfer of IFQ between Crab Harvesting Cooperatives; 2 hours; Application for Transfer (Lease) of Crab IPQ: 2.5 hours; Application for Converted CPO QS and CPO IFQ: 30 minutes; Application for CR Program Eligibility to Receive QS/PQS or IFQ/IPQ by Transfer: 2 hours; Application for Annual Exemption from Western Aleutian Islands Golden King Crab West Region Delivery Requirements: 2 hours; Application for Exemption from CR Crab North or South Region Delivery Requirements: 20 hours; North or South Region Delivery Exemption Report: 20 hours; Voluntary Community Impact Report or IPQ Holder Report (N or S Response Report): 2 hours; CDQ Group Notification of Community Representative: 5 hours; Application to Become an ECCO: 2.5 hours; Application for Transfer of Crab QS/IFQ to or from an ECCO: 2 hours; ECCO Annual Report: 4 hours; BSAI Crab Rationalization Program QS Beneficiary Designation Form: 30 minutes; File an Appeal to NMFS Decisions: 4 hours.

Estimated Total Annual Burden Hours: 3,597 hours.

Estimated Total Annual Cost to Public: $11,430 in recordkeeping and reporting costs.

Respondent's Obligation: Voluntary; Required to Obtain or Retain Benefits; Mandatory.

Legal Authority: Magnuson-Stevens Fishery Conservation and Management Act (16 U.S.C. 1801 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-20377 Filed 9-19-23; 8:45 am]

BILLING CODE 3510-22-P